DEPARTMENT OF THE INTERIOR

Bureau of Land Management

[LLAKA02000.L14400000.FR0000.241A; A-042498; A-058393]

Notice of Realty Action: Non-Competitive Direct Sale, Renunciation, and Conveyance of the Reversionary Interests in Recreation and Public Purpose Act Patents in Glennallen, Alaska

AGENCY: Bureau of Land Management, Interior.

ACTION: Notice of realty action.

SUMMARY: The Bureau of Land Management (BLM), Glennallen Field Office is considering a request by SEND North (SEND) to purchase the Federal Government's reversionary interest at current Fair Market Value of $210,000 for up to 210 acres of partially developed lands established under the Recreation and Public Purposes Act (R&PP) in Glennallen, Alaska. The BLM is also considering the renunciation of reversionary interest for an associated 2.5-acre patented parcel of land, authorized under the R&PP Act in Glennallen, Alaska, which was used as a medical sewage lagoon by SEND.

DATES: Interested parties may submit comments regarding the proposed sale and renunciation of the lands until May 9, 2016.

ADDRESSES: Send written comments to the Field Manager, Glennallen Field Office, P.O. Box 147, Glennallen, AK 99588.

FOR FURTHER INFORMATION CONTACT: Joseph Hart, Realty Specialist, Bureau of Land Management, Glennallen Field Office at 907-822-3217. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In 1961, a 210-acre parcel of Federal land was patented (patent number 1221491) to Central Alaska Missions Inc. (CAM) under the authority of the R&PP Act of June 14, 1926, as amended, 43 U.S.C. 869, et seq. The non-profit CAM came to Glennallen, Alaska in 1957 to assist the Glennallen community and the surrounding area with not-for-profit education, medical, and religious services. In 1963, an additional 2.5 acres was patented (patent number 1232741) under the same authority for the creation of a sewage lagoon to support the medical facility constructed on the previous patented land. The patents were subsequently transferred under provisions of the R&PP Act to the current non-profit SEND North (SEND).

The purpose for which the lands can be used is restricted by a reversionary clause in the patents, which returns title to the United States if the tracts are used for other purposes not provided for in the patents. The purpose of the direct sale is to dispose of the reversionary interests in the patented lands which represent certain restrictions and conditions that prevent SEND from using the land for other purposes. The purpose of the renunciation is to release the United States from liability for the sewage treatment lagoon. The parcels proposed for direct sale and renunciation of the reversionary interests are located in the business center of Glennallen, Alaska and consist of two surveyed parcels containing approximately 210 acres and 2.5 acres and are described as:

Copper River Meridian, Alaska

T. 4 N., R. 2 W.,

Sec. 23, NE¼, SE¼SE¼SE¼SW¼, NW¼NE¼SE¼ and NW¼SE¼.

The areas described aggregate 212.50 acres.

The purpose of the direct sale and renunciation of the reversionary interests is so the lands, patented to SEND, can be sold, transferred, and/or used for other purposes. The R&PP Act reversionary clause in the patents requires the patents be sold only to those qualified under the R&PP Act and is used only for the purposes allowed under the R&PP Act, or the patented land will revert back to the United States. These parcels of land are located in the business center of Glennallen, which is in a rural part of Alaska. SEND has experienced difficulty in attracting potential buyers because of the reversionary clause in the patents. SEND cannot find a buyer who is interested in the land and who qualifies under the R&PP Act. A direct sale and renunciation of the reversionary interests will allow SEND to sell or transfer the properties to any citizen or organization in the United States and to use the lands for any purpose, without the threat of a reversion of the title for breach of patent conditions. This sale and renunciation would reduce the Federal Government's and the BLM's liability in relation to both parcels and allow for the merger of property interests to occur.

The non-competitive, direct sale and release are consistent with the East Alaska Resource Management Plan approved in September 2007. Authority for the sale and release of the reversionary interests is in conformance with Section 202 of the Federal Land Policy and Management Act (FLPMA) of October 21, 1976, as amended, and Section 203, whereas the Secretary determines that the sale of the parcel meets the following disposal criteria: Such tract is difficult and uneconomic to manage because of its location or other characteristics, such as the subject's history of use, current level of development, and is neither required nor suitable for management by another Federal department or agency. The lands are being offered for sale and renunciation using direct sale procedures pursuant to 43 CFR 2711.3-3. The renunciation of the reversionary interest in the 2.5 acres would take place pursuant to 43 CFR 2743.4, as they meet the criteria identified in National BLM Handbook H-2740-1, Chapter X: Solid Waste or Other Purposes That May Include the Disposal, Placement, or Release of a Hazardous Substance. The reversionary interest in this land will be offered by direct sale to SEND at the Fair Market Value (FMV) of $210,000 according to an appraisal report for the 210-acre parcel located in the NE ¼ and SE ¼ of section 23. The 2.5-acre parcel located in the SW ¼ of section 23 containing a sewage lagoon will be renounced without payment by SEND. The appraisal report is available for public review at the BLM Glennallen Field Office at the address above.

Upon publication of this notice in the Federal Register, the lands will be segregated from all other forms of appropriation under the public land laws, including the general mining laws, except for lease under the R&PP Act, leasing under the mineral leasing laws, and disposals under the mineral material disposal laws.

Upon completion of this action, the identified parcels would no longer be subject to having title revert to the Federal Government under the R&PP Act as described in patents 1221491 and 1232741. All other terms and conditions of these patents will apply. The direct sale and renunciation of the reversionary interest of these lands will be made subject to the provisions of FLPMA, the applicable regulations of the Secretary of the Interior, all valid existing rights, and the following reservations:

1. A right-of-way thereon for ditches or canals constructed by the authority of the United States, Act of August 30, 1890 (43 U.S.C. 945); and

2. All minerals, together with the right to prospect for, mine, and remove such deposits from the same under applicable law and such regulations as the Secretary of the Interior may prescribe.

3. Valid existing rights.

The purchaser, by, respectively, purchasing the reversionary interests, and accepting the renunciation of the interests of the United States agrees to indemnify, defend, and hold the United States, its officers, agents or employees harmless from any costs, damages, claims, causes of action, penalties, fines, liabilities, and judgments of any kind arising from the past, present or future acts or omissions of the purchaser, its employees, agents, contractors, or lessees, or third-party arising out of or in connection with the purchaser's acceptance of the aforementioned release or purchaser's use and/or occupancy of the land involved resulting in: (1) Violations of Federal, State, and local laws and regulations that are now, or in the future become, applicable to real property; (2) judgments, claims or demands of any kind assessed against the United States; (3) Cost, expenses, or damages of any kind incurred by the United States; (4) Releases or threatened releases of solid or hazardous waste(s) and/or hazardous substances(s), as defined by Federal or State environmental laws, off, on, into or under land, property, and other interests of the United States; (5) Other activities by which solids or hazardous substances or wastes, as defined by Federal and State environmental laws are generated, released, stored, used, or otherwise disposed of on the land involved, and any cleanup, response, remedial action or other actions related in any manner to said solid or hazardous substances or wastes; or (6) Natural resource damages as defined by Federal and State law. Patentee shall stipulate that it will be solely responsible for compliance with all applicable Federal, State, and local environmental and regulatory provisions, throughout the life of the facilities, including any closure and/or post-closure requirements that may be imposed with respect to any physical plant and/or facilities upon the land involved under any Federal, State, or local environmental laws or regulatory provisions. This covenant shall be construed as running with the land and may be enforced by the United States in a court of competent jurisdiction.

No warranty of any kind, express or implied, is given by the United States in connection with the sale or release of the reversionary interest. The documentation for land use conformance, National Environmental Policy Act procedures, a map, and the approved appraisal report covering the proposed sale, are available for review at the BLM Glennallen Field Office at the address listed above.

Classification Comments: Interested persons may submit comments on the non-competitive, direct sale, renunciation, and conveyance of the reversionary interests in these public lands. Comments on the classification is restricted to whether the lands are physically suited for the sale, renunciation, and conveyance, whether the use will maximize the future use or uses of the land, whether the use is consistent with local planning and zoning, or if the use is consistent with State and Federal programs.

Interested persons may submit comments regarding the non-competitive, direct sale and renunciation of the reversionary interests and conveyance of reversionary interests, and whether the BLM followed proper administrative procedures in reaching the decision for the direct sale or renunciation of these reversionary interests.

Only written comments submitted by postal service or overnight mail to the Field Manager, BLM Glennallen Field Office, will be considered properly filed. Electronic mail, facsimile, or telephone comments will not be considered properly filed.

Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Alaska State Director, who may sustain, vacate, or modify these realty actions. In the absence of any adverse comments, the decision will become effective May 9, 2016. The reversionary interests will not be offered for sale or renounced until after the decision becomes effective.

(Authority: 43 CFR 2741.5)

Callie Webber,
Acting Anchorage District Manager.

[FR Doc. 2016-08026 Filed 4-6-16; 8:45 am]

BILLING CODE 4310-JA-P